DEPARTMENT OF THE TREASURY

Internal Revenue Service

Open Meeting of the Small Business/Self Employed Ensuring Fair Compliance (Schedule C Non-Filers) Committee of the Taxpayer Advocacy Panel

ACTION: Notice.

SUMMARY: An open meeting of the Small Business/ Self Employed Ensuring Fair Compliance (Schedule C Non-Filers) Committee of the Taxpayer Advocacy Panel will be conducted (via teleconference).

DATES: The meeting will be held Tuesday, November 12, 2002.

FOR FURTHER INFORMATION CONTACT: James McGurn at 1-888-912-1227, or 718-488-3553.

SUPPLEMENTARY INFORMATION: Notice is hereby given pursuant to Section 10(a)(2) of the Federal Advisory Committee Act, 5 U.S.C. App. (1988) that an open meeting of the Small Business/Self Employed Ensuring Fair Compliance (Schedule C Non-Filers) Committee of the Taxpayer Advocacy Panel will be held Tuesday, November 12, 2002 from 2 p.m. EST to 4 p.m. EST via a telephone conference call. The public is invited to make oral comments. Individual comments will be limited to 5 minutes. If you would like to have the TAP consider a written statement, please call 1-888-912-1227 or 718-488-3553, or write to James McGurn, TAP Office, 625 Fulton Street, 6th Floor, Brooklyn, NY 11201. Due to limited conference lines, notification of intent to participate in the telephone conference call meeting must be made with James McGurn. Mr. McGurn can be reached at 1-888-912-1227 or 718-488-3553.

The agenda will include the following: various IRS issues.

Note: Last minute changes to the agenda are possible and could prevent effective advance notice.

Dated: October 25, 2002.
Cathy VanHorn,
Director, Communication and Liaison.

[FR Doc. 02-28019 Filed 11-1-02; 8:45 am]

BILLING CODE 4830-01-P